DEPARTMENT OF DEFENSE

Department of the Army; Corps of Engineers

Intent to Prepare a Draft Environmental Impact Statement for the Caño Martín Peña Rehabilitation Project Being Proposed by the Puerto Rico Highway and Transportation Authority

AGENCY: Department of the Army, U.S. Army Corps of Engineers, DOD.

ACTION: Notice of intent.

SUMMARY: The Puerto Rico Highway and Transportation Authority (PRHTA) is proposing the rehabilitation of Caño Martín Peña (CMP) in the Municipality of San Juan, Puerto Rico. The proposal includes the dredging of CMP, the establishment of conservation strip and greenway on the CMP banks, the construction of a vehicular, pedestrian, and cyclist transportation corridor parallel to CMP and its conservation strips, relocation of approximately 1,100 structures, construction of a sanitary sewer and storm water system and improvements to existing systems, and improvements to the potable water distribution system. Portions of the project would need a permit under Section 10 of the Rivers and Harbors Act and Section 404 of the Clean Water Act permits.

FOR FURTHER INFORMATION CONTACT: Edwin E. Muñiz, (787) 729-6905/6944, Chief, Antilles Regulatory Section, U.S. Army Corps of Engineers, 400 Fernández Juncos Avenue, San Juan, PR 00901.

SUPPLEMENTARY INFORMATION: On May 2001, the Planning Division of Jacksonville, Corps of Engineers (Corps), prepared a report titled Dredging of Caño Martín Peña, Project Design Report and Environmental Impact Statement (EIS). This study was performed under the Support for Others Program at the request of the Puerto Rico Department of Natural and Environmental Resources (DNER). This report included a description of the study area's problems, several dredging and disposal alternatives, a detailed design for the sponsor's preferred alternative and a preliminary draft EIS of the recommended project. A partial list of relevant previous studies performed by private firms and governmental agencies in the project area is included in the report. The Project Design Report considered four alternatives that would vary in the size and shape of the channel. According to this report, these alternatives were evaluated on the basis of their construction method and cost, environmental impacts, real estate requirements, impacts to bridges and utilities, disposal of dredged material, project operation and maintenance, tidal flow capacity, and the recreation and navigation potential. These alternatives are as follows:

Alternative 1: Considered dredging a trapezoidal earth channel with a width between 150 to 230 feet and 10 feet depth. It would require the dredging of approximately 550,000 cubic yards of mixed materials from the CMP. The proposed channel dredging would follow the existing CMP channel alignment beginning at San José Lagoon and extends for about 11,600 feet to end west of the Luis Muñoz Rivera Avenue Bridge.

Alternative 2: Considered vertical concrete piles with connecting concrete panel walls with earth bottom with a width between 150 to 230 feet and 10 feet depth. It would require the dredging of approximately 750,000 cubic yards of mixed materials from the CMP. The proposed channel dredging would follow the existing CMP channel alignment beginning at San José Lagoon and extends for about 11,600 feet to end west of the Luis Muñoz Rivera Avenue Bridge.

Alternative 3: Consisted of a very limited channel clean up, cutting a trapezoidal channel section of 70 feet width by 3.5 feet deep and constructing a maintenance access road along the eastern half of CMP. It would require the dredging of about 25,000 cubic yards of mixed materials from the CMP. The proposed channel dredging would follow the existing CMP channel alignment beginning at San José Lagoon and extends for about 11,200 feet to end west of the Luis Muñoz Rivera Avenue Bridge.

Alternative 4: Similar to Alternative 2 with some modifications, this was the recommended alternative. It consisted of a rectangular channel with vertical bulkhead system. This project would require the dredging of approximately 750,000 cubic yards of mixed material along the existing channel between the bridge of Luis Muñoz Rivera Avenue and the San José Lagoon to provide a variable width of between 150 and 230 feet, and a depth of 10 feet. A transition from channel depth of 10 feet to a depth of 6 feet would be provided where the channel reaches San José Lagoon. This alternative requires replacement of existing bridges at Luis Muñoz Rivera and Barbosa Avenues.

All of these alternatives would require the relocation of people, houses, and utilities in the area as well as the acquisition and relocation of some structures along the channel alignment. The no-action alternative was also considered in the project Design Report. The report stated that no-action alternative would lead to further environmental degradation of the San Juan Bay Estuary, to a complete blockage of the channel by garbage and debris accumulation and continued construction of structures on the filled up waterway, and to continue the social stress associated with frequent flooding, deteriorated air and water quality, and life threatening health hazards.

The report also evaluated three alternatives for the disposal of the dredged material, in terms of their proximity to the project area, special handling, transportation requirements, environmental benefits, environmental impacts, and their overall cost. The disposal alternatives were as follows: (1) Ocean disposal; (2) land disposal; (3) and in-bay disposal. The study recommended in-bay disposal to fill two of the largest deep holes located at Los Corozos and San José Lagoons.

The PRHTA is now the lead from the Commonwealth of Puerto Rico for the proposed rehabilitation of CMP in the Municipality of San Juan, PR. The firm Moffatt and Nichol Engineers on behalf of the PRHTA prepared the document titled “Caño Martíin Peña Waterway Improvements” dated December 2002, where the above-mentioned alternatives presented in the document Dredging of Caño Martíin Peña, Project Design Report and Environmental Impact Statement were also reviewed. This document evaluated an additional alternative, it consisted of a rectangular 10 feet deep channel with realignment and vertical steel bulkhead system. The proposed channel width at straight and minor bends sections is 180 feet. The proposed channel alignment follows the existing CMP channel from the Laguna San José to the existing oxbow, crosses the peninsula and ends west of the Luis Muñoz Rivera Avenue Bridge, a distance of approximately 10,500 feet. The recommended alternative in this report is the same as the recommended alternative presented in the report prepared by the Corps in May 2001.

The PRHTA's proposal includes the following elements:

a. Dredging the CMP in the segment between the bridge on Muñoz Rivera Avenue and the San José Lagoon. Approximately 750,000 cubic yards of dredge material would be removed to widen the CMP to a variable width of between 150 and 250 feet, and a depth of 10 feet.

b. Discharge of fill material over open waters and/or wetlands.

c. A conservation strip and greenway at the CMP banks, which will include mangrove mitigation, trails and recreational areas that will allow pedestrians to interact with the CMP.

d. Construction of a vehicular, pedestrian and cyclist transportation corridor parallel to the CMP and its conservation strips.

e. Relocation of approximately 1,100 structures (family homes and small businesses) that would be affected by the proposed project.

f. Construction of a sanitary sewer and storm water system to eliminate the disposal of wastewater into the CMP. Improvements of existing systems to correct the interconnections between storm water and sewer systems.

g. Improvements to the potable water distribution system within the perimeter of influence of the project.

The primary purpose of this project is the environmental restoration of the eastern portion of CMP, which includes restoring the water flow between the San José Lagoon and the San Juan Bay. It would also benefit eight low-income communities surrounding the CMP. However, the proposed action would cause significant impacts, including individual and cumulative effects to the mangroves-wetlands, and aquatic resources, human environment, and type of land use (residential and commercial). The public health or safety could be affected since the sediments to be dredged in the CMP were determined to be polluted. Also, the proposed project could impact cultural resources. No endangered or threatened species are known to exist within the project area.

Pursuant to Section 10 of the Rivers and Harbors Act the Corps has regulatory authority over structures and/or work in or affecting navigable waters of the United States. Under section 404 of the Clean Water Act, the Corps has regulatory authority to permit the discharge of dredged or fill material into wetlands and other waters of the United States. The guidelines pursuant to Section 404(b) of the act require that impacts to the aquatic environment be avoided and minimized to the extent practicable.

In determining whether to issue a permit, the Corps must consider the 404(b)(1) guidelines, a public interest review and must also comply with other requirements including, but not limited to: The Endangered Species Act; the National Environmental Policy Act; the Coastal Zone Management Act; the Magnunson-Stevens Fishery Conservation Management Act; section 401 of the Clean Water Act; and other applicable Federal laws. Modifying land for new uses may also involve zoning, land use planning, water management, and other regulatory/planning requirements at the local, commonwealth, and Federal level.

Issues. The EIS will consider impacts on protected species, health, conservation, economics, aesthetics, general environmental concerns, wetlands (and other aquatic resources), historic properties, fish and wildlife values, flood hazards, floodplain values, land use, navigation, shoreline erosion and accretion, recreation, water supply and conservation, water quality, energy needs, safety, food and fiber production, mineral needs, considerations of property ownership, and, in general, the needs and welfare of the people, and other issues identified through scoping, public involvement, and interagency coordination.

Scooping: The PRHTA has conducted numerous citizen involvement activities and have held several meetings with representatives of concerned Federal, State, and local agencies. At this time, there are no plans for a public scoping meeting, if the Corps holds a public scoping meeting, it will be announced. In addition Federal, state and local agencies, as well as interested private organizations and individuals are strongly encouraged to suggest additional alternatives for consideration and otherwise submit comments on the scope of the draft EIS.

Public Involvement: We invite the participation of affected Federal, state, and local agencies, and other interested private organizations and individuals by submitting written comments to the contact information provided in this notice.

Coordination: The proposed action is being coordinated with a number of Federal, Commonwealth, and local agencies including but not limited to the following: U.S. Fish and Wildlife Service, National Marine Fisheries Service, U.S. Environmental Protection Agency, U.S. Coast Guard, Puerto Rico Department of Natural and Environmental Resources, Puerto Rico Environmental Quality Board, Puerto Rico Planning Board, Puerto Rico State Historic Preservation Office, and other agencies as identified in scoping, public involvement, and agency coordination.

Other Environmental Review and Consultation: The proposed action would involve evaluation for compliance with guidelines pursuant to section 404(b) of the Clean Water Act, public interest review, application for Water Quality Certification pursuant to section 401 of the Clean Water Act, and determination of Coastal Zone Management Act consistency.

Draft EIS Preparation: We estimate that the DEIS will be available to the public on or about January 15, 2004.

Luz D. Ortiz,
Army Federal Register Liaison Officer.

[FR Doc. 03-18439 Filed 7-11-03; 8:45 am]

BILLING CODE 3710-AJ-M